DEPARTMENT OF HOUSING AND URBAN DEVELOPMENT

[Docket No. FR-4730-N-17]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street, SW., Washington, DC 20410; telephone (202) 708-1234; TTY number for the hearing- and speech-impaired (202) 708-2565 (these telephone numbers are not toll-free), or call the toll-free Title V information lines at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocated the building to their own site at their own expense. Homeless assistance provider interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, the property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Julie Jones-Conte, Headquarters, Department of the Army, Office of the Assistant Chief of Staff for Installation Management, Program Integration Office, Attn: DAIM-MD, Room 1E677, 600 Army Pentagon, Washington, DC 20310-0600; (703) 692-9223; DOT: Mr. Rugene Spruill, Principal, Space Management, SVC-140 Transportation Administrative Service Center, Department of Transportation, 400 7th Street, SW., Room 2310, Washington, DC 20590; (202) 366-4246; Energy: Mr. Tom Knox, Department of Energy, Office of Engineering & Construction Management, CR-80, Washington, DC 20585; (202) 586-8715; GSA: Mr. Brian K. Polly, Assistant Commissioner, General Services Administration, Office of Property Disposal, 18th and F Streets, NW., Washington, DC 20405; (202) 501-0052; Interior: Ms. Linda Tribby, Acquisition & Property Management, Department of the Interior, 1849 C Street, NW., MS5512, Washington, DC 20240; (202) 219-0728; Navy: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: April 19, 2002.
John D. Garrity,
Director, Office of Special Needs Assistance Programs.

TITLE V, FEDERAL SURPLUS PROPERTY PROGRAM FEDERAL REGISTER REPORT FOR 4/26/02

Suitable/Available Properties

Buildings (by State)

Alabama

Fed. Bldg./Courthouse

1710 Alabama Ave.

Jasper Co: AL 35502-

Landholding Agency: GSA

Property Number: 54200220001

Status: Excess

Comment: approx. 15,792 sp. ft., approx. 38% of bldg. leased, most recent use—offices

GSA Number: 4-G-AL-771

Idaho

Bldg. CF617

Idaho Natl. Eng. & Env. Lab

Scoville Co: Butte ID 83415-

Landholding Agency: Energy

Property Number: 41200220022

Status: Excess

Comment: 11484 sq. ft. concrete, needs major rehab, presence of lead paint, off-site use only

Michigan

Pontiac Federal Bldg.

142 Auburn Ave.

Pontiac Co: Oakland MI

Landholding Agency: GSA

Property Number: 54200220005

Status: Surplus

Comment: 11,910 sq. ft., most recent use—office

GSA Number: 1-G-MI-809

New York

Ava Test Annex

11518 Webster Hill Road

Boonville Co: NY

Landholding Agency: GSA

Property Number: 54200220007

Status: Excess

Comment: 11,000 sq. ft. bldg. on 297 acres, needs repair, presence of asbestos/lead paint, portion of land consists of road easements and wetlands

GSA Number: 1-D-NY-0875

Pennsylvania

Bldg, 216

Naval Support Activity

Mechanicsburg Co: Cumberland PA 17055-0788

Landholding Agency: Navy

Property Number: 77200220008

Status: Excess

Comment: 121,604 sq. ft., needs rehab, presence of asbestos/lead paint, most recent use—office, off-site use only

Bldg. 504B

Naval Support Activity

Mechanicsburg Co: Cumberland PA 17055-0788

Landholding Agency: Navy

Property Number: 77200220009

Status: Excess

Comment: 4824 sq. ft., needs rehab, presence of asbestos/lead paint, most recent use—training, off-site use only

Bldg. 608D

Naval Support Activity

Mechanicsburg Co: Cumberland PA 17055-0788

Landholding Agency: Navy

Property Number: 77200220010

Status: Excess

Comment: 8400 sq. ft., needs rehab, presence of asbestos/lead paint, most recent use—storage, off-site use only

Bldg. 609B

Naval Support Activity

Mechanicsburg Co: Cumberland PA 17055-0788

Landholding Agency: Navy

Property Number: 77200220011

Status: Excess

Comment: 2100 sq. ft., needs rehab, presence of asbestos/lead paint, most recent use—storage, off-site use only

Bldg. 611

Naval Support Activity

Mechanicsburg Co: Cumberland PA 17055-0788

Landholding Agency: Navy

Property Number: 77200220012

Status: Excess

Comment: 425 sq. ft. concrete, presence of asbestos/lead paint, most recent use—storage, off-site use only

Bldg. 616

Naval Support Activity

Mechanicsburg Co: Cumberland PA 17055-0788

Landholding Agency: Navy

Property Number: 77200220013

Status: Excess

Comment: 216 sq. ft., needs rahab, presence of asbestos/lead paint, most recent use—storage, off-site use only

Rhode Island

Bldg. 8

Naval Ambulatory Care

Newport Co: RI 02841-

Landholding Agency: Navy

Property Number: 77200220017

Status: Unutilized

Comment: 2800 sq. ft., poor condition, possible asbestos/lead paint, most recent use—storage, meets Nat. Register criterion, off-site use only

Bldg. 30

Naval Ambulatory Care

Newport Co: RI 02841-

Landholding Agency: Navy

Property Number: 77200220018

Status: Unutilized

Comment: 150 sq. ft., poor condition, most recent use—switch house, off-site use only

Bldg. 46

Naval Ambulatory Care

Newport Co: RI 02841-

Landholding Agency: Navy

Property Number: 77200220019

Status: Unutilized

Comment: 3600 sq. ft., poor condition, possible asbestos/lead paint, most recent use office, off-site use only

Bldg. 53

Naval Ambulatory Care

Newport Co: RI 02841-

Landholding Agency: Navy

Property Number: 77200220020

Status: Unutilized

Comment: 2691 sq. ft., poor condition, possible asbestos/lead paint, most recent use—garage/office, off-site use only

Bldg. 55

Naval Ambulatory Care

Newport Co: RI 02841-

Landholding Agency: Navy

Property Number: 77200220021

Status: Unutilized

Comment: 135 sq. ft., poor condition, most recent use—storage, off-site use only

Unsuitable Properties

Buildings (by State)

Alabama

Bldg. 01404

Fort Rucker

Ft. Rucker Co: Dale AL 36362-

Landholding Agency: Army

Property Number 21200220001

Status: Excess

Reason: Extensive deterioration

Bldg. 00002

Redstone Arsenal

Redstone Arsenal Co: Madison AL 35898-5000

Landholding Agency: Army

Property Number 21200220002

Status: Unutilized

Reason: Extensive deterioration

Bldg. 03331

Redstone Arsenal

Redstone Arsenal Co: Madison AL 35898-5000

Landholding Agency: Army

Property Number 21200220003

Status: Unutilized

Reason: Extensive deterioration

Bldg. 1140

Redstone Arsenal

Redstone Arsenal Co: Madison AL 35898-5000

Landholding Agency: Army

Property Number 21200220004

Status: Unutilized

Reason: Extensive deterioration

Arizona

Bldg. 14471

Fort Huachuca

Ft. Huachuca Co: Cochise AZ 85613-

Landholding Agency: Army

Property Number: 21200220005

Status: Excess

Reason: Extensive deterioration

Bldg. 15373

Fort Huachuca

Ft. Huachuca Co: Cochise AZ 85613-

Landholding Agency: Army

Property Number: 21200220006

Status: Excess

Reason: Extensive deterioration

California

Bldgs. M0, MO14, MO17

Sandia National Lab

Livermore Co: Alameda CA 94550-

Landholding Agency: Energy

Property Number: 41200220001

Status: Excess

Reason: Extensive deterioration

Bldgs. 2616

Marine Corps Base

Camp Pendleton Co: CA 92055-

Landholding Agency: Navy

Property Number: 77200220001

Status: Excess

Reason: Extensive deterioration

Bldgs. 2634

Marine Corps Base

Camp Pendleton Co: CA 92055-

Landholding Agency: Navy

Property Number: 77200220002

Status: Excess

Reason: Extensive deterioration

Bldg. 2643

Marine Corps Base

Camp Pendleton Co: CA 90255-

Landholding Agency: Navy

Property Number: 77200220003

Status: Excess

Reason: Extensive deterioration

Bldg. 2644

Marine Corps Base

Camp Pendleton Co: CA 90255-

Landholding Agency: Navy

Property Number: 77200220004

Status: Excess

Reason: Extensive deterioration

Bldg. 2645

Marine Corps Base

Camp Pendleton Co: CA 90255-

Landholding Agency: Navy

Property Number: 77200220005

Status: Excess

Reason: Extensive deterioration

Bldg. 2646

Marine Corps Base

Camp Pendleton Co: CA 90255-

Landholding Agency: Navy

Property Number: 77200220006

Status: Excess

Reason: Extensive deterioration

Bldg. 2659

Marine Corps Base

Camp Pendleton Co: CA 90255-

Landholding Agency: Navy

Property Number: 77200220007

Status: Excess

Reason: Extensive deterioration

Bldg. 391

U.S. Coast Guard

Pacific Strike Team

Novato Co: Marin CA 94934-

Landholding Agency: DOT

Property Number: 87200220005

Status: Underutilized

Reason: Secured Area

Colorado

Bldgs. 124, 129

Rocky Flats Env. Tech. Site

Golden Co: Jefferson CO 80020-

Landholding Agency: Energy

Property Number: 41200220002

Status: Excess

Reason: Within 2000 ft. of flammable or explosive material; Secured Area

Bldgs. 371, 374, 374A

Rocky Flats Env. Tech. Site

Golden Co: Jefferson CO 80020-

Landholding Agency: Energy

Property Number: 41200220003

Status: Excess

Reason: Within 2000 ft. of flammable or explosive material; Secured Area

Bldgs. 376-378, 381

Rocky Flats Env. Tech. Site

Golden Co: Jefferson CO 80020-

Landholding Agency: Energy

Property Number: 41200220004

Status: Excess

Reason: Within 2000 ft. of flammable or explosive material; Secured Area

Bldgs. 441-443, 452

Rocky Flats Env. Tech. Site

Golden Co: Jefferson CO 80020-

Landholding Agency: Energy

Property Number: 41200220005

Status: Excees

Reasons: Within 2000 ft. of flammable or explosive material; Secured Area

Bldgs. 557, 559

Rocky Flats Env. Tech. Site

Golden Co: Jefferson CO 80020-

Landholding Agency: Energy

Property Number: 41200220006

Status: Excess

Reasons: Within 2000 ft. of flammable or explosive material; Secured Area

Bldgs. 561, 562

Rocky Flats Env. Tech. Site

Golden Co: Jefferson CO 80020-

Landholding Agency: Energy

Property Number: 41200220007

Status: Excess

Reasons: Within 2000 ft. of flammable or explosive material; Secured Area

Bldgs. 564, 566/A, 569

Rocky Flats Env. Tech. Site

Golden Co: Jefferson CO 80020-

Landholding Agency: Energy

Property Number: 41200220008

Status: Excess

Rasons: Within 2000 ft. of flammable or explosive material; Secured Area

Bldgs. 662, 663

Rocky Flats Env. Tech. Site

Golden Co: Jefferson Co 80020-

Landholding Agency: Energy

Property NumberL 41200220009

Status: Excess

Reasons: Within 2000 ft. of flammable or explosive material; Secured Area

Bldgs. 666, 681

Rocky Flats Env. Tech. Site

Golden co: Jefferson CO 80020-

Landholding Agency: Energy

Property Number: 41200220010

Status: Excess

Reasons: Within 2000 fit. of flammable or explosive material; Secured Area

Bldgs. 701, 705-708

Roocky Flats Env. Tech. Site

Golden Co: Jefferson Co 80020-

Landholding Agency: Energy

Property Number: 41200220011

Status: Excess

Reasons: Within 2000 ft. of flammable or explosive material; Secured Area

Bldgs. 714, 715, 718

Rocky Flats Env. Tech. Site

Golden Co: Jefferson CO 80020-

Landholding Agency: Energy

Property Number: 41200220012

Status: Excess

Reasons: Within 2000 ft. of flammable or explosive material; Secured Area

Bldgs. 731, 732

Rocky Flats Env. Tech. Site

Golden Co: Jefferson Co 80020-

Landholding Agency: Energy

Property Number: 41200220013

Status: Excess

Reasons: Within 2000 ft. of flammable or explosive material; Secured Area

Bldgs. 750, 763-765

Rocky Flats Env. Tech. Site

Golden Co: Jefferson CO 80020-

Landholding Agency: Energy

Property Number: 41200220014

Status: Excess

Reasons: Within 2000 ft. of flammable or explosive material; Secured Area

Bldgs. 758, 790

Rocky Flats Env. Tech. Site

Golden Co: Jefferson CO 80020-

Landholding Agency: Energy

Property Number: 41200220015

Status: Excess

Reasons: Within 2000 ft. of flammable or explosive material; Secured Area

Bldgs. 850, 864-865

Rocky Flats Env. Tech. Site

Golden Co: Jefferson CO 80020-

Landholding Agency: Energy

Property Number: 41200220016

Status: Excess

Reasons: Within 2000 ft. of flammable or explosive material; Secured Area

Bldgs. 869, 879

Rocky Flats Env. Tech. Site

Golden Co: Jefferson CO 80020-

Landholding Agency: Energy

Property Number: 41200220017

Status: Excess

Reasons: Within 2000 ft. of flammable or explosive material; Secured Area

Bldgs. 881, 881F, 881H

Rocky Flats Env. Tech. Site

Golden Co: Jefferson CO 80020-

Landholding Agency: Energy

Property Number: 41200220018

Status: Excess

Reasons: Within 2000 ft. of flammable or explosive material; Secured Area

Bldgs. 883-885, 887

Rocky Flats Env. Tech. Site

Golden Co: Jefferson CO 80020-

Landholding Agency: Energy

Property Number: 41200220019

Status: Excess

Reasons: Within 2000 ft. of flammable or explosive material; Secured Area

Bldg. 891

Rocky Flats Env. Tech. Site

Golden Co: Jefferson CO 80020-

Landholding Agency: Energy

Property Number: 41200220020

Status: Excess

Reasons: Within 2000 ft. of flammable or explosive material; Secured Area

Bldgs. 906, 991, 995

Rocky Flats Env. Tech. Site

Golden Co: Jefferson CO 80020-

Landholding Agency: Energy

Property Number: 41200220021

Status: Excess

Reasons: Within 2000 ft. of flammable or explosive material; Secured Area

Georgia

Bldg. 00420

Fort Gordon

Ft. Gordon Co: Rochmond GA 30905-

Landholding Agency: Army

Property Number: 21200220007

Status: Unutilized

Reason: Extensive deterioration

Bldg. 00479

Fort Gordon

Ft. Gordon Co: Richmond GA 30905-

Landholding Agency: Army

Property Number: 21200220008

Status: Unutilized

Reason: Extensive deterioration

Bldg. 18806

Fort Gordon

Ft. Gordon Co: Richmond GA 30905-

Landholding Agency: Army

Property Number: 21200220009

Status: Unutilized

Reason: Extensive deterioration

Bldg. 19210

Fort Gordon

Ft. Gordon Co: Richmond GA 30905-

Landholding Agency: Army

Property Number: 21200220010

Status: Unutilized

Reason: Extensive deterioration

Bldg. 00933

Fort Gillem

Ft. Gillem Co: Forest Park GA 30050-5233

Landholding Agency: Army

Property Number: 21200220011

Status: Unutilized

Reason: Extensive deterioration

Bldg. 00934

Fort Gillem

Ft. Gillem Co: Forest Park GA 30050-5233

Landholding Agency: Army

Property Number: 21200220012

Status: Unutilized

Reason: Extensive deterioration

Guam

Bldg. 6011

Naval Forces, Marianas

Marianas Co: GU 96540-

Landholding Agency: Navy

Property Number: 77200220024

Status: Unutilized

Reason: Secured Area

Hawaii

Bldg. C1180

Schofield Barracks

Wahiawa Co: HI 96786-

Landholding Agency: Army

Property Number: 21200220013

Status: Unutilized

Reason: Extensive deterioration

Bldg. 00316

Dillingham Military Rsv

Waialua Co: HI 96791-

Landholding Agency: Army

Property Number: 21200220014

Status: Unutilized

Reason: Extensive deterioration

Bldg. 00343

Dillingham Military Rsv

Waialua Co: HI 96791-

Landholding Agency: Army

Property Number: 21200220015

Status: Unutilized

Reason: Extensive deterioration

Bldg. 00638

Dillingham Military Rsv

Waialua Co: HI 96791-

Landholding Agency: Army

Property Number: 21200220016

Status: Unutilized

Reason: Extensive deterioration

Bldg. 00651

Dillingham Military Rsv

Waialua Co: HI 96791-

Landholding Agency: Army

Property Number: 21200220017

Status: Unutilized

Reason: Extensive deterioration

Bldg. 00700

Dillingham Military Rsv

Waialua Co: HI 96791-

Landholding Agency: Army

Property Number: 21200220018

Status: Unutilized

Reason: Extensive deterioration

Bldg. 00701, 00703

Dillingham Military Rsv

Waialua Co: HI 96791-

Landholding Agency: Army

Property Number: 21200220019

Status: Unutilized

Reason: Extensive deterioration

Bldg. 00702

Dillingham Military Rsv

Waialua Co: HI 96791-

Landholding Agency: Army

Property Number: 21200220020

Status: Unutilized

Reason: Extensive deterioration

Bldg. 120

Wheeler Army Airfield

Waialua Co: HI 96786-

Landholding Agency: Army

Property Number: 21200220021

Status: Unutilized

Reason: Extensive deterioration

Iowa

Bldg. 01075

Middletown Co: Des Moines IA 52638-

Landholding Agency: Army

Property Number: 21200220022

Status: Underutilized

Reasons: Within 2000 ft. of flammable or explosive material; Extensive deterioration

Kentucky

Bldgs. 02715, 02717, 02719

Fort Campbell

Ft. Campbell Co: Christian KY 42223-

Landholding Agency: Army

Property Number: 21200220026

Status: Unutilized

Reason: Extensive deterioration

Bldgs. 02736, 05326

Fort Campbell

Ft. Campbell Co: Christian KY 42223-

Landholding Agency: Army

Property Number: 21200220027

Status: Unutilized

Reason: Extensive deterioration

Bldg. 02738

Fort Campbell

Ft. Campbell Co: Christian KY 42223-

Landholding Agency: Army

Property Number: 21200220028

Status: Unutilized

Reason: Extensive deterioration

Bldg. 07178

Fort Campbell

Ft. Campbell Co: Christian KY 42223-

Landholding Agency: Army

Property Number: 21200220029

Status: Unutilized

Reason: Extensive deterioration

Bldg. 01049

Fort Knox

Ft. Knox Co: KY 40121-

Landholding Agency: Army

Property Number: 21200220030

Status: Unutilized

Reason: Extensive deterioration

Bldg. 01308

Fort Knox

Ft. Knox Co: KY 40121-

Landholding Agency: Army

Property Number: 21200220031

Status: Unutilized

Reason: Extensive deterioration

Bldg. 01487

Fort Knox

Ft. Knox Co: KY 40121-

Landholding Agency: Army

Property Number: 21200220032

Status: Unutilized

Reason: Extensive deterioration

Bldg. 02758

Fort Knox

Ft. Knox Co: KY 40121-

Landholding Agency: Army

Property Number: 21200220033

Status: Unutilized

Reason: Extensive deterioration

Bldgs. 04787, 04788-04800

Fort Knox

Ft. Knox Co: KY 40121-

Landholding Agency: Army

Property Number: 21200220034

Status: Unutilized

Reason: Extensive deterioration

Bldgs. 04804, 04814, 04818

Fort Knox

Ft. Knox Co: KY 40121-

Landholding Agency: Army

Property Number: 21200220035

Status: Unutilized

Reason: Extensive deterioration

47 Bldgs.

Fort Knox

04958-04960, 04964-04966, 04970-04972, 04986

Ft. Knox Co: KY 40121-

Location: 04805, 04821, 04828, 04830, 04831, 04834-04836, 04839-04841, 04845-04847, 04853, 04871, 04872, 04876-04878, 04909, 04910, 04922-04924, 04927-04929, 04937-04939, 04943-04945. 04952-04954, 04956

Landholding Agency: Army

Property Number: 21200220036

Status: Unutilized

Reason: Extensive deterioration

40 Bldgs.

Fort Knox

04950, 4967, 4973, 4976, 4977, 4981, 4984

Ft. Knox Co: KY 40121-

Location: 04806-04808, 04811, 04813, 04822, 04823, 04827, 04837, 04848, 04854-04856, 04859-04861, 04879, 04883, 04887-04889, 04894, 04897, 04898, 04902, 04903, 04907, 04913, 04917, 04930, 04931, 04934, 04946

Landholding Agency: Army

Property Number: 21200220037

Status: Unutilized

Reason: Extensive deterioration

19 Bldgs.

Fort Knox

Ft. Knox Co: KY 40121-

Location: 04809, 04812, 04832, 04843, 04849, 04852, 04869, 04873, 04890, 04919, 04920, 04935, 04941, 04962, 04968, 04975, 04978, 04980, 04988

Landholding Agency: Army

Property Number: 21200220038

Status: Unutilized

Reason: Extensive deterioration

13 Bldgs.

Fort Knox

Ft. Knox Co: KY 40121-

Location: 04810, 04842, 04868, 04884, 04891, 04899, 04904, 04940, 04947, 04961, 04974, 04979, 04987

Landholding Agency: Army

Property Number: 21200220039

Status: Unutilized

Reason: Extensive deterioration

17 Bldgs.

Fort Knox

Ft. Knox Co: KY 40121-

Location: 04829, 04833, 04838, 04844, 04850, 04870, 04875, 04908, 04918, 04921, 04926, 04936, 04942, 04951, 04957, 04963, 04969

Landholding Agency: Army

Property Number: 21200220040

Status: Unutilized

Reason: Extensive deterioration

5 Bldgs.

Fort Knox

Ft. Knox Co: KY 40121-

Location: 04851, 04911, 04912, 04915, 04916

Landholding Agency: Army

Property Number: 21200220041

Status: Unutilized

Reason: Extensive deterioration

16 Bldgs.

Fort Knox

Ft. Knox Co: KY 40121-

Location: 04857, 04858, 04885, 04886, 04892, 04893, 04895, 04896, 04905, 04906, 04932, 04933, 04948, 04949, 04982, 04983

Landholding Agency: Army

Property Number: 21200220042

Status: Unutilized

Reason: Extensive deterioration

Bldg. 04914

Fort Knox

Ft. Knox Co: KY 40121-

Landholding Agency: Army

Property Number: 21200220043

Status: Unutilized

Reason: Extensive deterioration

Bldgs. 05023, 05030-05035

Fort Knox

Ft. Knox Co: KY 40121-

Landholding Agency: Army

Property Number: 21200220044

Status: Unutilized

Reason: Extensive deterioration

14 Bldgs.

Fort Knox

Ft. Knox Co: KY 40121-

Location: 05024, 05025, 05026, 05028, 05029, 05036-05044

Landholding Agency: Army

Property Number: 21200220045

Status: Unutilized

Reason: Extensive deterioration

15 Bldgs.

Fort Knox

Ft. Knox Co: KY 40121-

Location: 05055, 05056, 05057, 05059-05070

Landholding Agency: Army

Property Number: 21200220046

Status: Unutilized

Reason: Extensive deterioration

Bldg. 05214

Fort Knox

Ft. Knox Co: KY 40121-

Landholding Agency: Army

Property Number: 21200220047

Status: Unutilized

Reason: Extensive deterioration

Bldgs. 06112, 09212

Fort Knox

Ft. Knox Co: KY 40121-

Landholding Agency: Army

Property Number: 21200220048

Status: Unutilized

Reason: Extensive deterioration

Bldg. 06803

Fort Knox

Ft. Knox Co: KY 40121-

Landholding Agency: Army

Property Number: 21200220049

Status: Unutilized

Reason: Extensive deterioration

Bldgs. 06811, 06815

Fort Knox

Ft. Knox Co: KY 40121-

Landholding Agency: Army

Property Number: 21200220050

Status: Unutilized

Reason: Extensive deterioration

Bldg. 06819

Fort Knox

Ft. Knox Co: KY 40121-

Landholding Agency: Army

Property Number: 21200220051

Status: Unutilized

Reason: Extensive deterioration

Bldg. 06827

Fort Knox

Ft. Knox Co: KY 40121-

Landholding Agency: Army

Property Number: 21200220052

Status: Unutilized

Reason: Extensive deterioration

Bldgs. 06829, 06840

Fort Knox

Ft. Knox Co: KY 40121-

Landholding Agency: Army

Property Number: 21200220053

Status: Unutilized

Reason: Extensive deterioration

Bldg. 06848

Fort Knox

Ft. Knox Co: KY

Landholding Agency: Army

Property Number: 21200220054

Status: Unutilized

Reason: Extensive deterioration

Bldg. 07011

Fort Knox

Ft. Knox Co: KY 40121-

Landholding Agency: Army

Property Number: 21200220055

Status: Unutilized

Reason: Extensive deterioration

Maryland

Bldg. 00602

Adelphi Lab Center

Adelphi Co: MD 20783-

Landholding Agency: Army

Property Number: 21200220056

Status: Unutilized

Reasons: Within 2000 ft. of flammable or explosive material; Secured Area

Bldg. 00605

Adelphi Lab Center

Adelphia Co: MD 20783-

Landholding Agency: Army

Property Number: 21200220057

Status: Unutilized

Reasons: Within 2000 ft. of flammable or explosive material; Secured Area; Extensive deterioration

Michigan

5 Bldgs.

Fort Custer

Augusta Co: Kalamazoo MI 49012-

Location: 2621, 2614, 2608, 2701, 2721

Landholding Agency: Army

Property Number: 21200220058

Status: Excess

Reason: Extensive deterioration

Bldgs. 2706-2707

Fort Custer

Augusta Co: Kalamazoo MI 49012-

Landholding Agency: Army

Property Number: 21200220059

Status: Excess

Reason: Extensive deterioration

4 Bldgs.

Fort Custer

Augusta Co: Kalamazoo MI 49012-

Location: 2722, 2609, 2809, 2909

Landholding Agency: Army

Property Number: 21200220060

Status: Excess

Reason: Extensive deterioration

Bldg. 2727

Fort Custer

Augusta Co: Kalamazoo MI 49012-

Landholding Agency: Army

Property Number: 21200220061

Status: Excess

Reason: Extensive deterioration

Bldg. 3650

Fort Custer

Augusta Co: Kalamazoo MI 49012-

Landholding Agency: Army

Property Number: 21200220062

Status: Excess

Reason: Extensive deterioration

New Jersey

Bldg. 1222F

Picatinny Arsenal

Dover Co: NJ 07806-5000

Landholding Agency: Army

Property Number: 21200220063

Status: Unutilized

Reason: Extensive deterioration

Bldg. 195

U.S. Coast Guard

Cape May Co: NJ 08204-5002

Landholding Agency: DOT

Property Number: 87200220001

Status: Excess

Reason: Secured Area

Bldg. 204

U.S. Coast Guard

Cape May Co: NJ 08204-5002

Landholding Agency: DOT

Property Number: 87200220002

Status: Excess

Reason: Secured Area

Bldg. 208

U.S. Coast Guard

Cape May Co: NJ 08204-5002

Landholding Agency: DOT

Property Number: 87200220003

Status: Excess

Reason: Secured Area

Bldg. 209

U.S. Coast Guard

Cape May Co: NJ 08204-5002

Landholding Agency: DOT

Property Number: 87200220004

Status: Excess

Reason: Secured Area

New Mexico

TA-53, Bldg. 61

Los Alamos National Lab

Los Alamos Co: NM 87545-

Landholding Agency: Energy

Property Number: 41200220023

Status: Unutilized

Reason: Extensive deterioration

TA-53, Bldg. 63

Los Alamos National Lab

Los Alamos Co: NM 87545-

Landholding Agency: Energy

Property Number: 41200220024

Status: Unutilized

Reason: Extensive deterioration

TA-53, Bldg. 65

Los Alamos National Lab

Los Alamos Co: NM 87545-

Landholding Agency: Energy

Property Number: 41200220025

Status: Unutilized

Reason: Extensive deterioration

Bldg. B117

Kirtland Operations

Albuquerque Co: Bernalillo NM 87117-

Landholding Agency: Energy

Property Number: 41200220032

Status: Excess

Reason: Extensive deterioration

Bldg. B118

Kirland Operations

Albuquerque Co: Bernalillo NM 87117-

Landholding Agency: Energy

Property Number: 41200220033

Status: Excess

Reason: Extensive deterioration

Bldg. B119

Kirtland Operations

Albuquerque Co: Bernalillo NM 87117-

Landholding Agency: Energy

Property Number: 41200220034

Status: Excess

Reason: Extensive deterioration

New York

Bldgs. B9008, B9009

Youngstown Training Site

Youngstown Co: Niagara NY 14131-

Landholding Agency: Army

Property Number: 21200220064

Status: Unutilized

Reason: Extensive deterioration

Bldgs. B9016, B9017, B9018

Youngstown Training Site

Youngstown Co: Niagara NY 14132-

Landholding Agency: Army

Property Number: 21200220065

Status: Unutilized

Reason: Extensive deterioration

Bldgs. B9025, B9026, B9027

Youngstown Training Site

Youngstown Co: Niagara NY 14131-

Landholding Agency: Army

Property Number: 21200220066

Status: Unutilized

Reason: Extensive deterioration

Bldgs. B9033, B9034

Youngstown Training Site

Youngstown Co: Niagara NY 14131-

Landholding Agency: Army

Property Number: 21200220067

Status: Unutilized

Reason: Extensive deterioration

Bldg. B9042

Youngstown Training Site

Youngstown Co: Niagara NY 14131-

Landholding Agency: Army

Property Number: 21200220068

Status: Unutilized

Reason: Extensive deterioration

Bldgs. B9050, B9051

Youngstown Training Site

Youngstown Co: Niagara NY 14131-

Landholding Agency: Army

Property Number: 21200220069

Status: Unutilized

Reason: Extensive deterioration

Ohio

Bldg. BT-423

Defense Supply Center

Columbus Co: Franklin OH 43216-5000

Landholding Agency: Army

Property Number: 21200220070

Status: Unutilized

Reason: Extensive deterioration

Bldg. 11

Fernald Env. Mgmt. Proj.

Hamilton Co: OH 45013-

Landholding Agency: Energy

Property Number: 41200220026

Status: Excess

Reason: Secured Area

Bldg. 14A

Fernald Env. Mgmt. Proj.

Hamilton Co: OH 45013-

Landholding Agency: Energy

Property Number: 41200220027

Status: Excess

Reason: Secured Area

Bldg. 15A

Fernald Env. Mgmt. Proj.

Hamilton Co: OH 45013-

Landholding Agency: Energy

Property Number: 41200220028

Status: Excess

Reason: Secured Area

Bldg. 15C

Fernald Env. Mgmt. Proj.

Hamilton Co: OH 45013-

Landholding Agency: Energy

Property Number: 41200220029

Status: Excess

Reason: Secured Area

Bldg. 20K

Fernald Env. Mgmt. Proj.

Hamilton Co: OH 45013-

Landholding Agency: Energy

Property Number: 41200220030

Status: Excess

Reason: Secured Area

Bldg. 53B

Fernald Env. Mgmt. Proj.

Hamilton Co: OH 45013-

Landholding Agency: Energy

Property Number: 41200220031

Status: Excess

Reason: Secured Area

Pennsylvania

Bldg. 99

Defense Distribution Depot

New Cumberland Co: York PA 17070-5002

Landholding Agency: Army

Property Number: 21200220071

Status: Unutilized

Reason: Secured Area

Bldg. 106-114

Defense Distribution Depot

New Cumberland Co: York PA 17070-5002

Landholding Agency: Army

Property Number: 21200220072

Status: Unutilized

Reason: Secured Area

Bldg. 459

Defense Distribution Depot

New Cumberland Co: York PA 17070-5002

Landholding Agency: Army

Property Number: 21200220073

Status: Unutilized

Reason: Secured Area

Bldg. 13

Naval Support Activity

Mechanicsburg Co: Cumberland PA 17055-0788

Landholding Agency: Navy

Property Number: 77200220014

Status: Excess

Reason: Extensive deterioration

Bldg. 311

Naval Support Activity

Mechanicsburg Co: Cumberland PA 17055-0788

Landholding Agency: Navy

Property Number: 77200220015

Status: Excess

Reason: Extensive deterioration

Bldg. 608-C

Naval Support Activity

Mechanicsburg Co: Cumberland PA 17055-0788

Landholding Agency: Navy

Property Number: 77200220016

Status: Excess

Reason: Extensive deterioration

South Dakota

Residence

308 8th Ave., S.

Clear Lake Co: Deuel SD 57226-

Landholding Agency: GSA

Property Number: 54200220003

Status: Surplus

Reason: Extensive deterioration

GSA Number: 7-J-SD-0552

Tennessee

Bldgs. 02413, 02425

Fort Campbell

Ft. Campbell Co: Montgomery TN 42223-

Landholding Agency: Army

Property Number: 21200220023

Status: Unutilized

Reason: Extensive deterioration

Bldg. 02538

Fort Campbell

Ft. Campbell Co: Montgomery TN 42223-

Landholding Agency: Army

Property Number: 21200220024

Status: Unutilized

Reason: Extensive deterioration

Bldg. 02548

Fort Campbell

Ft. Campbell Co: Montgomery TN 42223-

Landholding Agency: Army

Property Number: 21200220025

Status: Unutilized

Reason: Extensive deterioration

Bldg. 9404-03

Y-12 Natl Security Complex

Oak Ridge Co: Anderson TN 37831-

Landholding Agency: Energy

Property Number: 41200220035

Status: Unutilized

Reason: Secured Area

Bldg. 9404-07

Y-12 Natl Security Complex

Oak Ridge Co: Anderson TN 37831-

Landholding Agency: Energy

Property Number: 41200220036

Status: Unutilized

Reason: Secured Area

Bldg. 9404-08

Y-12 Natl Security Complex

Oak Ridge Co: Anderson TN 37831-

Landholding Agency: Energy

Property Number: 41200220037

Status: Unutilized

Reason: Secured Area

Texas

Bldg. 1825

Naval Air Station

Ft. Worth Co: Tarrant TX 76127-

Landholding Agency: Navy

Property Number: 77200220025

Status: Unutilized

Reasons: Secured Area; Extensive deterioration

Bldgs. 262 & 263

Naval Air Station

Ft. Worth Co: Tarrant TX 76127-

Landholding Agency: Navy

Property Number: 77200220026

Status: Unutilized

Reasons: Secured Area; Extensive deterioration

Virginia

Bldg. 812

Fort A.P. Hill

Bowling Green Co: Caroline VA 22427-

Landholding Agency: Army

Property Number: 21200220074

Status: Unutilized

Reason: Extensive deterioration

Bldg. S0097

Defense Supply Center

Richmond Co: Chesterfield VA 23297-

Landholding Agency: Army

Property Number: 21200220075

Status: Unutilized

Reasons: Secured Area

Bldgs. 00065, 00066

Fort Monroe

Ft. Monroe Co: VA 23651-

Landholding Agency: Army

Property Number: 21200220076

Status: Excess

Reason: Extensive deterioration

Bldgs. 00067, 00068

Fort Monroe

Ft. Monroe Co: VA 23651-

Landholding Agency: Army

Property Number: 21200220077

Status: Excess

Reason: Extensive deterioration

Bldgs. 00069, 00070

Fort Monroe

Ft. Monroe Co: VA 23651-

Landholding Agency: Army

Property Number: 21200220078

Status: Excess

Reason: Extensive deterioration

Bldg. 00079

Fort Monroe

Ft. Monroe Co: VA 23651-

Landholding Agency: Army

Property Number: 21200220079

Status: Excess

Reason: Extensive deterioration

Bldg. AT222

Fort Pickett

Blackstone Co: Nottoway VA 23824-

Landholding Agency: Army

Property Number: 21200220080

Status: Unutilized

Reason: Extensive deterioration

Bldg. T0222

Fort Pickett

Blackstone Co: Nottoway VA 23824-

Landholding Agency: Army

Property Number: 21200220081

Status: Unutilized

Reason: Extensive deterioration

Bldg. T1306

Fort Pickett

Blackstone Co: Nottoway VA 23824-

Landholding Agency: Army

Property Number: 21200220082

Status: Unutilized

Reason: Extensive deterioration

Bldgs. T1707, T1708, T1709

Fort Pickett

Blackstone Co: Nottoway VA 23824-

Landholding Agency: Army

Property Number: 21200220083

Status: Unutilized

Reason: Extensive deterioration

Bldg. T1811

Fort Pickett

Blackstone Co: Nottoway VA 23824-

Landholding Agency: Army

Property Number: 21200220084

Status: Unutilized

Reason: Extensive deterioration

Bldgs. T1886, T1187

Fort Pickett

Blackstone Co: Nottoway VA 23824-

Landholding Agency: Army

Property Number: 21200220085

Status: Unutilized

Reason: Extensive deterioration

Bldgs. T2203, T2229

Fort Pickett

Blackstone Co: Nottoway VA 23824-

Landholding Agency: Army

Property Number: 21200220086

Status: Unutilized

Reason: Extensive deterioration

Bldgs. T2305, T2306

Fort Pickett

Blackstone Co: Nottoway VA 23824-

Landholding Agency: Army

Property Number: 21200220087

Status: Unutilized

Reason: Extensive deterioration

Bldg. T2362

Fort Pickett

Blackstone Co: Nottoway VA 23824-

Landholding Agency: Army

Property Number: 21200220088

Status: Unutilized

Reason: Extensive deterioration

9 Bldgs.

Fort Pickett

Blackstone Co: Nottoway VA 23824-

Location: T2375, T2376, T2464, T2465, T2665, T2666, T2667, T2862, T2863

Landholding Agency: Army

Property Number: 21200220089

Status: Unutilized

Reason: Extensive deterioration

Bldgs. T2652, T2804

Fort Pickett

Blackstone Co: Nottoway VA 23824-

Landholding Agency: Army

Property Number: 21200220090

Status: Unutilized

Reason: Extensive deterioration

Bldgs. T2847, T2848, T2849

Fort Pickett

Blackstone Co: Nottoway VA 23824-

Landholding Agency: Army

Property Number: 21200220091

Status: Unutilized

Reason: Extensive deterioration

6 Bldgs.

Fort Pickett

Blackstone Co: Nottoway VA 23824-

Location: T2850, T2851, T2852, T2853, T2854, T2855

Landholding Agency: Army

Property Number: 21200220092

Status: Unutilized

Reason: Extensive deterioration

Bldgs. T3002, T3004

Fort Pickett

Blackstone Co: Nottoway VA 23824-

Landholding Agency: Army

Property Number: 21200220093

Status: Unutilized

Reason: Extensive deterioration

6 Bldgs.

Fort Pickett

Blackstone Co: Nottoway VA 23824-

Location: T3010, T3012, T3025, T3026, T3040, T3041

Landholding Agency: Army

Property Number: 21200220094

Status: Unutilized

Reason: Extensive deterioration

14 Bldgs.

Fort Pickett

Blackstone Co: Nottoway VA 23824-

Location: T3013-T3015, T3018-T3024, T3027-T3030

Landholding Agency: Army

Property Number: 21200220095

Status: Unutilized

Reason: Extensive deterioration

11 Bldgs.

Fort Pickett

Blackstone Co: Nottoway VA 23824-

Location: T3016-T3017, T3031-T3036, T3037-T3039

Landholding Agency: Army

Property Number: 21200220096

Status: Unutilized

Reason: Extensive deterioration

Washington

Bldg. 4173

Fort Lewis

Ft. Lewis Co: Pierce WA 98433-9500

Landholding Agency: Army

Property Number: 21200220097

Status: Excess

Reason: Extensive deterioration

Bldg. 98

Naval Air Station

Oak Harbor Co: Whidbey Island WA 98278-

Landholding Agency: Navy

Property Number: 77200220022

Status: Unutilized

Reasons: Within 2000 ft. of flammable or explosive material; Floodway; Extensive deterioration

Bldg. 2667

Naval Air Station

Oak Harbor Co: Whidbey Island WA 98278-

Landholding Agency: Navy

Property Number: 77200220023

Status: Unutilized

Reasons: Within 2000 ft. of flammable or explosive material; Floodway; Extensive deterioration

Land (by State)

Arizona

Parcels WC-1-2c, WC-1-2f

Gila & Salt River Meridian

Peoria Co: Maricopa AZ 85382-

Landholding Agency: Interior

Property Number: 61200220001

Status: Excess

Reason: Floodway

Colorado

Landfill

48th & Holly Streets

Commerce Co: Adams CO 80022-

Landholding Agency: GSA

Property Number: 54200220006

Status: Surplus

Reasons: Within 2000 ft. of flammable or explosive material; contamination

GSA Number: 7-Z-CO-0647

[FR Doc. 02-10111 Filed 4-25-02; 8:45 am]

BILLING CODE 4210-29-M